DEPARTMENT OF ENERGY

2008 Department of Energy Nuclear Suppliers Outreach Meeting

AGENCY: Department of Energy.

ACTION: Notice of open meeting.

SUMMARY: The Department of Energy (DOE) Office of Environmental Management (EM), and the National Nuclear Security Administration (NNSA), will co-sponsor a Suppliers Outreach event for suppliers interested in providing service and products in the nuclear sector.

DATES: Thursday, July 31, 2008, 8 a.m.-6 p.m.

ADDRESSES: The Hyatt Regency Tech Center Hotel, 7800 E Tufts Avenue, Denver, Colorado 80237.

FOR FURTHER INFORMATION CONTACT: Nancy Osbourne, Event Coordinator, Performance Results Corporation, 2605 Cranberry Square, Morgantown, WV 26508. Phone (304) 291-2100; Fax (304) 291-5885 or e-mail: nosbourne@prc8a.com.

SUPPLEMENTARY INFORMATION: Purpose of the meeting: This nuclear suppliers' outreach event is an excellent opportunity for companies interested in working in the DOE nuclear sector to gain insights into the current and future markets for products and services, and requirements to enter or to continue to work on nuclear projects in the DOE-complex. In addition, participants will have the opportunity to interact directly with senior executives, project managers, and procurement personnel working for DOE and its prime contractors; and, gain insight into Nuclear Quality Assurance program requirements applicable to both the DOE and commercial nuclear industry sectors.

The purpose of this forum is two fold. First, it will help ensure that all EM and NNSA sites have an adequate number of qualified nuclear and non-nuclear suppliers for future projects and programs. Second, it will provide information for suppliers regarding the needs of DOE projects and programs for their products and services in the years ahead.

Agenda

8 a.m. Welcome and Logistics

8:15 a.m. Key Note Addresses

• Perspectives on EM Nuclear Project Needs

• Perspectives on NNSA Nuclear Project Needs

• Perspectives on U.S. Business Competitiveness in Nuclear Energy

9:45 a.m. Break

10:15 a.m. Market Outlooks for Nuclear Suppliers

• Commercial Nuclear Industry Supplier Interactions and Future Direction

• DOE/EM Outlook: Major Construction and Operation Projects

• DOE/NNSA Outlook: Major Construction and Operation Projects

• Nuclear Quality Assurance (NQA) Requirements and Impact on Suppliers

11:45 a.m. Question and Answer Period

12 p.m. Lunch

1:30 p.m. Concurrent Panel Discussions: NQA-1 Based Procurement Challenges and Major Issues

• Panel Session: Nuclear Services (Design, Engineering, Construction)

• Panel Session: Nuclear Equipment (Pumps, Valves, Tanks, Pipes)

3 p.m. DOE Site and Industry Interactions

• EM/NNSA Site Tables: Federal and Contractor procurement representatives from each site will be available to discuss specific needs and issues

• NQA-1 Table: ASME representatives will be available to discuss Quality Assurance Program requirements and program implementation

Registration Information: There is no conference fee. Participants may register at http://www.prc8a.com/doenuclearsuppliersoutreachmeeting/, or by contacting Nancy Osbourne at the address or telephone number listed above.

Issued at Washington, DC, on July 9, 2008.
Dae Y. Chung,
Deputy Assistant Secretary, Office of Safety Management and Operations.

[FR Doc. E8-16028 Filed 7-14-08; 8:45 am]

BILLING CODE 6405-01-P